DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: June 17, 2015 (9:30 a.m.-4:30 p.m.).

Place: Webinar/Conference Call Format.

Status: The meeting will be open to the public.

Purpose: The ACICBL provides advice and recommendations to the Secretary of the Department of Health and Human Services (Secretary) concerning policy, program development, and other matters of significance related to interdisciplinary, community-based training grant programs authorized under sections 750-759, title VII, part D of the Public Health Service Act, as amended by the Affordable Care Act. The following sections are included under this part: 751—Area Health Education Centers; 752—Continuing Education Support for Health Professionals Serving in Underserved Communities; 753—Geriatrics Workforce Enhancement; 754—Quentin N. Burdick Program for Rural Interdisciplinary Training; 755—Allied Health and Other Disciplines; 756—Mental and Behavioral Health Education and Training, and 759—Program for Education and Training in Pain Care.

Agenda: The Committee members will continue to discuss the content of the ACICBL 15th Annual Report to the Secretary of Health and Human Services and Congress and finalize programmatic recommendations including recommendations on performance measures and appropriation levels for programs under title VII, part D in the following programmatic areas: Area Health Education Centers; Geriatrics, Rural Health; Allied Health; Chiropractic; Podiatric Medicine; Graduate Psychology; Social Work; and Pain Care.

The official agenda will be available 2 days prior to the meeting on the HRSA Web site at: http://www.hrsa.gov/advisorycommittees/bhpradvisory/acicbl/index.html. Agenda items are subject to change as priorities dictate.

Public Comment: Requests to make oral comments or provide written comments to the ACICBL should be sent to Dr. Joan Weiss, Designated Federal Official, using the address and phone number below. Individuals who plan to participate on the conference call or webinar should notify Dr. Weiss at least 3 days prior to the meeting, using the address and phone number below. Members of the public will have the opportunity to provide comments. Interested parties should refer to the meeting subject as the HRSA Advisory Committee on Interdisciplinary, Community-Based Linkages. The conference call-in number is 1-888-323-2718. The passcode is: 5945760. The webinar link is: https://hrsa.connectsolutions.com/acicbl/.

For Further Information Contact: Anyone requesting information regarding the ACICBL should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of the Executive Secretariat.

[FR Doc. 2015-12717 Filed 5-26-15; 8:45 am]

BILLING CODE 4165-15-P